DEPARTMENT OF HEALTH AND HUMAN SERVICES

Substance Abuse and Mental Health Services Administration

Advisory Committee for Women's Services; Notice of Meeting Cancellation

The Substance Abuse and Mental Health Services Administration published a notice in the Federal Register concerning a meeting of the Advisory Committee for Women's Services. The meeting scheduled for Wednesday, March 31, 2021 at 1 p.m. is cancelled. The notice is in the Federal Register of Wednesday, March 10, 2021, in FR Doc. 2021-04935, on page 13725.

For further information, contact Valerie Kolick or Carlos Castillo below.

Contacts:

Valerie Kolick, Designated Federal Officer, SAMHSA's Advisory Committee for Women's Services, 5600 Fishers Lane, Rockville, MD 20857, Telephone: (240) 276-1738, Email: Valerie.kolick@samhsa.hhs.gov

Carlos Castillo, SAMHSA's Committee Management Officer, 5600 Fishers Lane, Rockville, MD 20857, Telephone: (240) 276-2787, Email: Carlos.Castillo@samhsa.hhss.gov

Dated: March 22, 2021.
Carlos Castillo,
Committee Management Officer, Substance Abuse and Mental Health, Services Administration.

[FR Doc. 2021-06256 Filed 3-25-21; 8:45 am]

BILLING CODE 4162-20-P